DEPARTMENT OF DEFENSE

Department of the Air Force

Notice of Intent To Grant an Exclusive Patent License

AGENCY: Air Force Materiel Command, Department of Defense.

ACTION: Notice of Intent.

SUMMARY: Pursuant to the provisions of Part 404 of Title 37, Code of Federal Regulations, which implements Public Law 96-517, as amended; the Department of the Air Force announces its intention to grant The Regents of the University of Michigan, a land-grant educational institution of the State of Michigan, having a place of business at 503 S. State St., Ann Arbor, MI 48109.

DATES: The Air Force intends to grant a license for the patent and pending applications unless a written objection is received within fifteen (15) calendar days from the date of publication of this Notice.

ADDRESSES: Written objection should be sent to: Air Force Materiel Command Law Office, AFMCLO/JAZ, 2240 B Street, Rm. 101, Wright-Patterson AFB, OH 45433-7109; Facsimile: (937) 255-3733.

FOR FURTHER INFORMATION CONTACT: Air Force Materiel Command Law Office, AFMCLO/JAZ, 2240 B Street, Rm. 101, Wright-Patterson AFB, OH 45433-7109; Facsimile: (937) 255-3733.

SUPPLEMENTARY INFORMATION: An exclusive license in any right, title, and interest of the Air Force in: U.S. Provisional Application No. 62/383,775, entitled, “DURABLE HYDROPHOBIC SURFACES,” by Anish Tuteja, Kevin Golovin, James Gose, Matthew Boban, Joseph Mabry, Marc Perlin, and Steven Ceccio and filed on 6 September 2016.

Henry Williams,
Acting Air Force Federal Register Liaison Officer.

[FR Doc. 2016-24241 Filed 10-6-16; 8:45 am]

BILLING CODE 5001-10-P